FEDERAL ELECTION COMMISSION

Sunshine Act Notices

AGENCY: Federal Election Commission.

The Executive Session scheduled for Tuesday, January 13, 2009, was cancelled.

* * * * *

Date and Time: Wednesday, January 14, 2009, 10 a.m.

This hearing will be continued on Thursday, January 15, 2009, at 10 a.m.

Place: 999 E Street, NW., Washington, DC (Ninth Floor).

Status: Public hearing on Commission policies, practices, and procedures.

* * * * *

Date and Time: Thursday, January 15, 2009, Open Meeting (rescheduled to begin at 2 p.m.).

Place: 999 E Street, NW., Washington, DC (Ninth Floor).

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary Dove,
Secretary of the Commission.

[FR Doc. E9-855 Filed 1-15-09; 8:45 am]

BILLING CODE 6715-01-P